DEPARTMENT OF DEFENSE

Office of the Secretary

Submission for OMB Review; Comment Request

ACTION: Notice.

The Department of Defense has submitted to OMB for clearance, the following proposal for collection of information under the provisions of the Paperwork Reduction Act (44 U.S.C. Chapter 35)

DATES: Consideration will be given to all comments received by April 29, 2004.

Title, Form, and OMB Number: Professional Qualifications, Medical and Peer Reviews; CHAMPUS Form 780; OMB Number 0720-0005.

Type of Request: Reinstatement.

Number of Respondents: 60.

Responses Per Respondents: 60.

Responses Per Respondent: 1.

Annual Responses: 60.

Average Burden Per Response: 15 minutes.

Annual Burden Hours: 15.

Needs and Uses: The information collection requirement is necessary to obtain and record the professional qualifications of medical and peer reviewers utilized within CHAMPUS. The form is included as an exhibit in an appeal or hearing case file as evidence of the reviewer's professional qualifications to review the medical documentation contained in the case file. Respondents are medical professionals who provide medical and peer review of cases appealed to the Office of Appeals, Hearings and Claims Collection Division, TRICARE Management Activity.

Affected Public: Individuals or households; business or other for-profit.

Frequency: On occasion.

Respondent's Obligation: Voluntary.

OMB Desk Officer: Mr. John Kraemer.

Written comments and recommendations on the proposed information collection should be sent to Mr. Kraemer at the Office of Management and Budget, Desk Officer for DoD Health Affairs, Room 10236, New Executive Office Building, Washington, DC 20503.

DoD Clearance Officer: Mr. Robert Cushing.

Written requests for copies of the information collection proposal should be sent to Mr. Cushing, WHS/ESCD/Information Management Division, 1225 Jefferson Davis Highway, Suite 504, Arlington, VA 22202-4326.

Dated: March 24, 2004.
L.M. Bynum,
Alternate OSD Federal Register Liaison Officer, Department of Defense.

[FR Doc. 04-7048 Filed 3-29-04; 8:45 am]

BILLING CODE 5001-06-M